DEPARTMENT OF TRANSPORTATION

Federal Aviation Administration

[Advisory Circular Number AC 23-25]

Advisory Circular on Standard Airworthiness Compliance Checklists for Part 23 Projects

AGENCY: Federal Aviation Administration, DOT.

ACTION: Notice of availability; request for comments.

SUMMARY: This notice announces a Federal Aviation Administration (FAA) proposed advisory circular that provides a standard compliance checklist for Title 14 of the Code of Federal Regulations (14 CFR) part 23 Type Certificate, Amended Type Certificate, and Supplemental Type Certificate projects. This checklist shows the typical methods of compliance with the regulations and provides a cross-reference to other related guidance material. The checklists created using the information in this AC complement the guidance in the Guides for Certification of Part 23 Airplanes (ACs 23-8B, 23-16A, 23-17B, and 23-19) and other more project specific guidance. This checklist is a starting place when applying for certification. This AC describes an acceptable means, but not the only means, of compliance with 14 CFR part 23. The material in this AC is neither mandatory nor regulatory in nature and does not constitute a regulation.

DATES: Send your comments by August 22, 2005.

Discussion: We are making this proposed advisory circular available to the public and all manufacturers for their comments.

ADDRESSES: Copies of the proposed advisory circular, AC 23-25, may be requested from the following: Small Airplane Directorate, Standards Office (ACE-110), Aircraft Certification Service, Federal Aviation Administration, 901 Locust Street, Room 301, Kansas City, MO 64106. The proposed advisory circular is also available on the Internet by selecting the Regulatory Guidance Library (RGL) link at http://www.faa.gov/certification/aircraft and then selecting the Draft Advisory Circulars link, or at http://www.faa.gov/aircraft/draft_docs/. Send all comments on this proposed advisory circular to the individual identified under FOR FURTHER INFORMATION CONTACT.

FOR FURTHER INFORMATION CONTACT: Mark S. Orr, Federal Aviation Administration, Small Airplane Directorate, Regulations & Policy, ACE-114, 901 Locust Street, Room 301, Kansas City, Missouri 64106; telephone: (816) 329-4151; fax: 816-329-4090; e-mail: mark.orr@faa.gov.

SUPPLEMENTARY INFORMATION:

Comments Invited

We invite your comments on this proposed advisory circular. Send any data or views as you may desire. Identify the proposed Advisory Circular Number AC 23-25 on your comments, and if you submit your comments in writing, send two copies of your comments to the above address. The Small Airplane Directorate will consider all communications received on or before the closing date for comments. We may change the proposal contained in this notice because of the comments received.

Comments sent by fax or the Internet must contain “Comments to proposed advisory circular AC 23-25” in the subject line. You do not need to send two copies if you fax your comments or send them through the Internet. If you send comments over the Internet as an attached electronic file, format it in either Microsoft Word 97 for Windows or ASCII text.

State what specific change you are seeking to the proposed advisory circular and include justification (for example, reasons or data) for each request.

Issued in Kansas City, Missouri, on June 13, 2005.
John R. Colomy,
Acting Manager, Small Airplane Directorate, Aircraft Certification Service.

[FR Doc. 05-12147 Filed 6-20-05; 8:45 am]

BILLING CODE 4910-13-P